DEPARTMENT OF TRANSPORTATION

Federal Aviation Administration

14 CFR Part 71

[Docket No. FAA-2007-28773; Airspace Docket No. 07-ACE-9]

Amendment to Class E Airspace; Poplar Bluff, MO

AGENCY: Federal Aviation Administration (FAA), DOT.

ACTION: Direct final rule; request for comments.

SUMMARY: This action amends Class E Airspace at Poplar Bluff, MO. Additional controlled airspace is necessary to accommodate a new Standard Instrument Approach Procedure (SIAP) at Poplar Bluff Municipal Airport, Poplar Bluff, MO. This will improve the safety of Instrument Flight Rules (IFR) aircraft executing the new SIAP at Poplar Bluff Municipal Airport, MO.

DATES: Effective Date: 0901 UTC, December 20, 2007. Comments for inclusion in the Rules Docket must be received on or before October 1, 2007. The Director of the Federal Register approves this incorporation by reference action under Title 1, Code of Federal Regulations, part 51, subject to the annual revision of FAA Order 7400.9 and publication of conforming amendments.

ADDRESSES: Send comments to this final rule to U.S. Department of Transportation, Docket Operations, M-30, West Building Ground Floor, Room W12-140, 1200 New Jersey Avenue, SE, Washington, DC 20590.

You must identify the docket number FAA-2007-28773/Airspace Docket No. 07-ACE-9, at the beginning of your comments. You may also submit comments through the Internet at http://dms.dot.gov. You may review the public docket containing the direct final rule, any comment received, and any final disposition in person in the Dockets Office between 9 a.m. and 5 p.m., Monday through Friday, except Federal holidays. The Docket Office (telephone 1-800-647-5527) is on the ground level of the Department of Transportation Building at the above address.

FOR FURTHER INFORMATION CONTACT: Grant Nichols, System Support, DOT Regional Headquarters Building, Federal Aviation Administration, 901 Locust, Kansas City, MO 64106; telephone: (816) 329-2522.

SUPPLEMENTARY INFORMATION:

The Direct Final Rule Procedure

The FAA anticipates that this regulation will not result in adverse or negative comment and, therefore, is issuing it as a direct final rule. Previous actions of this nature have not been controversial and have not resulted in adverse comments or objections. Unless a written adverse or negative comment or a written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, on written notice of intent to submit such a comment, a document withdrawing the direct final rule will be published in the Federal Register, and a notice of proposed rulemaking may be published with a new comment period.

Comments Invited

Interested parties are invited to participate in this rulemaking by submitting such written data, views, or arguments, as they may desire. Comments that provide the factual basis supporting the views and suggestions presented are particularly helpful in developing reasoned regulatory decisions on the direct final rule. Comments are specifically invited on the overall regulatory, aeronautical, economic, environmental, and energy-related aspects of the direct final rule. Comments are specifically invited on the overall regulatory, aeronautical, economic, environmental, and energy-related aspects of the direct final rule. Communications should identify both docket numbers and be submitted in triplicate to the address listed above. Commenters wishing the FAA to acknowledge receipt of their comments on this notice must submit with those comments a self-addressed, stamped postcard on which the following statement is made: “Comments to Docket No. FAA-2007-28773/Airspace Docket No. 07-ACE-9.” The postcard will be date/time stamped and returned to the commenter.

The Rule

This amendment to Title 14, Code of Federal regulations (14 CFR) part 71 modifies the class E airspace area at Poplar Bluff Municipal Airport, Poplar Bluff, MO. The radius of the Class E airspace area extending upward from 700 feet or more above the surface of the earth is expanded from within a 6.5-mile radius to within a 7.6-mile radius of the airport. This will accommodate aircraft executing new SIAPs at Poplar Bluff Municipal Airport. Class E airspace areas extending upward from 700 feet or more above the surface of the earth are published in Paragraph 6005 of FAA order 7400.9P, dated September 1, 2006, and effective September 15, 2006, which is incorporated by reference in 14 CFR 71.1. The Class E airspace designations listed in this document will be published subsequently in the Order.

The regulations adopted herein will not have a substantial direct effect on the States, on the relationship between the national Government and the States, or on the distribution of power and responsibilities among the various levels of government. Therefore, it is determined that this final rule does not have federalism implications under Executive Order 13132.

The FAA has determined that this regulation only involves an established body of technical regulations for which frequent and routine amendments are necessary to keep them operationally current. Therefore, this regulation (1) is not a “significant regulatory action” under Executive Order 12866; (2) is not a “significant rule” under Department of Transportation (DOT) Regulatory Policies and Procedures (44 FR 11034, February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, Section 40103. Under this section, the FAA is charged with prescribing regulations to assign the use of the of the airspace necessary to ensure the safety of aircraft and the efficient use of airspace.

This regulation is within the scope of that authority since it improves the safety of aircraft executing IFR procedures at Poplar Bluff Municipal Airport, Poplar Bluff, MO.

List of Subjects in CFR Part 71

Airspace, Incorporation by reference, Navigation (air).

Adoption of the Amendment

Accordingly, the Federal Aviation Administration amends 14 CFR part 71 as follows:

PART 71—DESIGNATION OF CLASS A, B, C, D, AND E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, dated September 1, 2006, and effective September 15, 2006, is amended as follows:

Paragraph 6005 Class E Airspace Areas Extending Upward From 700 Feet or More Above the Surface of the Earth.

* * * * *

ACE MO E5 Poplar Bluff, MO [Amended]

Poplar Bluff Municipal Airport, MO

(Lat. 36°26′26″ N., long. 90°19′29″ W.)

That airspace extending upward from 700 feet above the surface within a 7.6-mile radius of Poplar Bluff Municipal Airport, and within 2.6 miles each side of the 181° bearing from the Poplar Bluff Municipal Airport extending from the 7.6-mile radius, to 7.6 miles south of the airport.

* * * * *

Issued in Forth Worth, TX, on August 28, 2004.
Roger M. Trevino,
Manager, System Support Group, ATO Central Service Center.

[FR Doc. 07-4353 Filed 9-6-07; 8:45 am]

BILLING CODE 4910-13-M